DEPARTMENT OF THE INTERIOR

National Park Service

[NPS-WASO-NAGPRA-NPS0039767; PPWOCRADN0-PCU00RP14.R50000]

Notice of Intended Repatriation: San Bernardino County Museum, Redlands, CA

AGENCY: National Park Service, Interior.

ACTION: Notice.

SUMMARY: In accordance with the Native American Graves Protection and Repatriation Act (NAGPRA), San Bernardino County Museum intends to repatriate certain cultural items that meet the definition of unassociated funerary objects, sacred objects and/or objects of cultural patrimony and that have a cultural affiliation with the Indian Tribes or Native Hawaiian organizations in this notice.

DATES: Repatriation of the cultural items in this notice may occur on or after April 28, 2025.

ADDRESSES: Gabrielle Carpentier, San Bernardino County Museum, 2024 Orange Tree Lane, Redlands, CA 92374, telephone (909) 798-8613, email gabrielle.carpentier@sbcm.sbcounty.gov.

SUPPLEMENTARY INFORMATION: This notice is published as part of the National Park Service's administrative responsibilities under NAGPRA. The determinations in this notice are the sole responsibility of San Bernardino County Museum, and additional information on the determinations in this notice, including the results of consultation, can be found in the summary or related records. The National Park Service is not responsible for the determinations in this notice.

Abstract of Information Available

A total of 62 cultural items have been requested for repatriation.

The seven sacred objects/objects of cultural patrimony are one lot of ground stone, unmodified shell, worked shell, flaked stone, charcoal, asphaltum, and unmodified faunal bone. In 1948-50, Stuart Peck with ASA and UCLA excavated multiple pits at Zuma Creek (LAN-174) (SBCM-473), under a temporary permit.

The three unassociated funerary items are one lot of stone bowls, ground stone, and flaked stone. These objects were donated by Bill and Steve Black (A158) in July 1968. Notes present in this file (SBCM-808/A158), state that these items were found in Goleta along with burials not housed at SBCM.

The three sacred objects/objects of cultural patrimony are one lot of steatite figurines, steatite beads, and worked faunal bone. These items were donated to the museum by Gerald Smith (A5) over several years. Based on our records, the culture area of these objects is coastal California.

The 18 sacred objects/objects of cultural patrimony are one lot stone pipes, ground stone, stone figurines, shell beads and pendants, shell fish hooks, stone fishing weights, a stone tube, stone pendants, a shell dish, flaked, a stone ball, debitage, a digging stick weight, an arrow straightener, a nutcracker, a stone bead, a stone lamp, and a comal. These items have been disenfranchised from their individual provenience, but based on expert opinion, are affiliated with coastal California Chumash.

The one sacred object/object of cultural patrimony is a stone figurine. A2033-279 was donated on 12/15/1986 by William Elliot and appraised prior to donation, where the appraiser listed it as Chumash.

The two sacred objects/objects of cultural patrimony are two paintings. These objects were donated to the museum in 2015. Both paintings were created by John Lincoln in 1975. A3393-9 is titled `Chumash Rock Painting II' No 13/60. A3393-10 is titled `Chumash Rock Painting III', NO 13/60. These pieces were from the estate of Mrs. Dickey, a long-time museum education volunteer, who donated them to the museum in June 2015.

The one sacred object/object of cultural patrimony is one lot of shell beads. A4-640 was purchased on 4/21/1941 from an archaeology student in Tucson, Arizona, although they were claimed to be found in California. These objects were brought to the museum by Benjamin McCown (A4). On 9/30/2024, Kathleen Marshall of the Santa Ynez Band of Chumash Indians identified these shell beads as Chumash.

The four sacred objects/objects of cultural patrimony are one lot of unmodified faunal bone, lithics, unmodified shell, and shell beads. These objects from Wilson's Landing (SBCM-75X) in Ventura County, California were recorded by San Bernardino County Museum in 1940.

The one sacred object/object of cultural patrimony is one lot of lithics. These objects from Oak Grove Park (SBCM-483) in Ventura County, California were recorded by San Bernardino County Museum in 1947.

The three sacred objects/objects of cultural patrimony are one lot of unmodified faunal bone, unmodified shell, and lithics. These objects from Cuyama Valley (SBCM-5564) in Santa Barbara County, California were recorded by San Bernardino County Museum in 1983.

The two sacred objects/objects of cultural patrimony are one lot of basketry and netting. These objects from Hummingbird Ranch (SBCM-5740) in Ventura County, California were recorded by San Bernardino County Museum in 2002 and were an ASA collection (#29-S).

The one sacred object/object of cultural patrimony is one lot of unmodified shell and unmodified faunal bone. These objects from near Port Hueneme (SBCM-5895) in Ventura County, California were recorded by San Bernardino County Museum in 1951 and are a Benjamin McCown collection.

The two sacred objects/objects of cultural patrimony are one lot of glass beads and unmodified shell. These objects from Browne Site (SBCM-6255) in Ventura County, California were recorded by San Bernardino County Museum in 2008 and are an ASA collection.

The six sacred objects/objects of cultural patrimony are one lot of unmodified faunal bone, glass, lithics, metal, red ochre, and unmodified shell. These objects from the Southern California Edison Presidential Substation Project (SBCM-6279/CA-VEN-744) in Moorpark, Ventura County, California were collected by the Chambers Group, Inc. in 2010 and subsequently curated under a curation agreement at San Bernardino County Museum.

The four sacred objects/objects of cultural patrimony are one lot of unmodified faunal bone, lithics, red ochre, and unmodified shell. These objects from the Southern California Edison Presidential Substation Project (SBCM-6279/CA-VEN-1571) in Thousand Oaks, Ventura County, California were collected by the Chambers Group, Inc. in 2010 and subsequently curated under a curation agreement at San Bernardino County Museum.

The one sacred object/object of cultural patrimony is one lot of lithics. These objects from Point Dume, south of Oxnard (SBCM-6295) in Ventura County, California were recorded by San Bernardino County Museum in 1947 and are a Benjamin McCown collection.

The one lot of objects of cultural patrimony is one lot of ground stone. This lot comes from Santa Rosa Island. The object was collected in 1948, given to the Mousley Museum, and then transferred to the SBCM in 1991.

The one lot of objects of cultural patrimony is one lot of ground stone. This lot comes from Mussell Rock in Santa Barbara County. The object was collected in 1949, given to the Mousley Museum, and then transferred to the SBCM in 1993.

The one lot of objects for cultural patrimony is one lot of soil. This lot was collected on 12/22/1972 from VEN-276, and labelled as “Frag #7, trench 10, (s. side).”

Determinations

San Bernardino County Museum has determined that:

• The three unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The three objects of cultural patrimony described in this notice have ongoing historical, traditional, or cultural importance central to the Native American group, including any constituent sub-group (such as a band, clan, lineage, ceremonial society, or other subdivision), according to the Native American traditional knowledge of an Indian Tribe or Native Hawaiian organization.

• The 56 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Santa Ynez Band of Chumash Mission Indians of the Santa Ynez Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 28, 2025. If competing requests for repatriation are received, San Bernardino County Museum must determine the most appropriate requestor prior to repatriation. Requests for joint repatriation of the cultural items are considered a single request and not competing requests. San Bernardino County Museum is responsible for sending a copy of this notice to the Indian Tribes and Native Hawaiian organizations identified in this notice and to any other consulting parties.

Authority: Native American Graves Protection and Repatriation Act, 25 U.S.C. 3004 and the implementing regulations, 43 CFR 10.9.

Dated: March 17, 2025.
Melanie O'Brien,
Manager, National NAGPRA Program.

[FR Doc. 2025-05220 Filed 3-26-25; 8:45 am]

BILLING CODE 4312-52-P